DEPARTMENT OF THE INTERIOR

National Park Service

Notice of Inventory Completion: American Museum of Natural History, New York, NY

Correction

In notice document E6-6263 appearing on page 24757 in the issue of Wednesday, April 26, 2006, make the following correction:

In the center column, in the fourth full paragraph, in the fourth and fifth lines, “245120 years B.P.” should read “245 ± 120 years B.P.”.

[FR Doc. Z6-6263 Filed 5-3-06; 8:45 am]

BILLING CODE 1505-01-D

DEPARTMENT OF JUSTICE

Drug Enforcement Administration

Manufacturer of Controlled Substances; Notice of Application

Correction

In notice document E6-4351 appearing on page 15219 in the issue of Monday, March 27, 2006, make the following correction:

In the second column, in the third full paragraph, in the last line, “May 1, 2006” should read “May 26, 2006”.

[FR Doc. Z6-4351 Filed 5-3-06; 8:45 am]

BILLING CODE 1505-01-D